DEPARTMENT OF DEFENSE

Office of the Secretary

Reserve Forces Policy Board; Notice of Federal Advisory Committee Meeting

AGENCY: Under Secretary of Defense for Personnel and Readiness, Department of Defense (DoD).

ACTION: Notice of Federal Advisory Committee meeting.

SUMMARY: The DoD is publishing this notice to announce that the following Federal Advisory Committee meeting of the Reserve Forces Policy Board (RFPB) will take place.

DATES: The RFPB will hold an open meeting to the public Wednesday, September 28, 2022 from 8:30 a.m. to 4:15 p.m.

ADDRESSES: The RFPB meeting address is the Army Navy Country Club, 1700 Army Navy Drive, Arlington, VA 22202.

FOR FURTHER INFORMATION CONTACT: Alexander Sabol, (703) 681-0577 (Voice), 703-681-0002 (Facsimile), Alexander.J.Sabol.Civ@Mail.Mil (Email). Mailing address is Reserve Forces Policy Board, 5109 Leesburg Pike, Suite 501, Falls Church, VA 22041. Website: http://rfpb.defense.gov/. The most up-to-date changes to the meeting agenda can be found on the website.

SUPPLEMENTARY INFORMATION: This meeting is being held under the provisions of the Federal Advisory Committee Act (FACA) of 1972 (5 U.S.C., Appendix, as amended), the Government in the Sunshine Act of 1976 (5 U.S.C. 552b, as amended), and 41 CFR 102-3.140 and 102-3.150.

Purpose of the Meeting: The purpose of the meeting is to obtain, review and evaluate information related to strategies, policies, and practices designed to improve and enhance the capabilities, efficiency, and effectiveness of the Reserve Components.

Agenda: The RFPB will hold an open meeting to the public Wednesday, September 28, 2022 from 8:30 a.m. to 4:15 p.m. The meeting will focus on discussions with: the Deputy Assistant Secretary of Defense for Reserve Integration who will address current Reserve Component programs, challenges, and readiness issues within Reserve Integration and the Total Force Integration; the Total Force Integration Subcommittee Chair who will address Total Force Policy as it pertains to the current Reserve Component programs, challenges, and readiness issues; the Chief National Guard Bureau, the Reserve Component Chiefs, and Senior Enlisted Leaders who will discuss perspectives on the Reserve Components' priorities and related connectivity with the lines of efforts from the National Defense Strategy followed by a Question & Answer discussion; the Deputy Assistant Secretary for Military Personnel Policy who will provide an update on the Reserve Component Recruiting & Retention data; the RFPB Subcommittee chairs of the Subcommittee for Integration of Total Force Personnel Policy, the Subcommittee for the Reserve Components' Role in Homeland Defense and Support to Civil Authorities, and the Subcommittee for Total Force Integration Chairs who will conduct discussions on the subcommittees' priorities and focus areas received from the meeting's discussions and other areas where the Board can use its role to best provide recommended support to the taskings of the Secretary of Defense and the Sponsor, USD P&R; the Board's deliberation and vote on Terms of Reference for key issues & RFPB priorities; and the Chairman's closing remarks.

Meeting Accessibility: Pursuant to 5 U.S.C. 552b, as amended and 41 CFR 102-3.140 through 102-3.165, and subject to the availability of space, the meeting is open to the public from 8:30 a.m. to 4:15 p.m. Seating is based on a first-come, first-served basis. All members of the public who wish to attend the public meeting must contact Mr. Alex Sabol, the Designated Federal Officer, not later than 12:00 p.m. on Monday, September 26, 2022, as listed in the FOR FURTHER INFORMATION CONTACT section.

Written Statements: Pursuant to 41 CFR 102-3.105(j) and 102-3.140 and section 10(a)(3) of the FACA, interested persons may submit written statements to the RFPB at any time about its approved agenda or at any time on the Board's mission. Written statements should be submitted to the RFPB's Designated Federal Officer at the address or facsimile number listed in the FOR FURTHER INFORMATION CONTACT section. If statements pertain to a specific topic being discussed at the planned meeting, then these statements must be submitted no later than five (5) business days prior to the meeting in question. Written statements received after this date may not be provided to or considered by the RFPB until its next meeting. The Designated Federal Officer will review all timely submitted written statements and provide copies to all the committee members before the meeting that is the subject of this notice. Please note that since the RFPB operates under the provisions of the FACA, all submitted comments and public presentations will be treated as public documents and will be made available for public inspection, including, but not limited to, being posted on the RFPB's website.

Dated: August 29, 2022.
Aaron T. Siegel,
Alternate OSD Federal Register Liaison Officer, Department of Defense.

[FR Doc. 2022-18953 Filed 8-31-22; 8:45 am]

BILLING CODE 5001-06-P